DEPARTMENT OF AGRICULTURE

Rural Housing Service

Rural Business-Cooperative Service

Rural Utilities Service

Farm Service Agency

Notice of Public Information Collection Requirements Submitted to OMB for Review

AGENCIES: Rural Housing Service, Rural Business-Cooperative Service, and Rural Utilities Service, USDA.

ACTION: Proposed collection; comments requested.

SUMMARY: In accordance with the Paperwork Reduction Act of 1995, this notice announces Rural Development's intention to seek Office of Management and Budget (OMB) approval of new information collection requirements in support of new electronic loan collection methods.

DATES: Comments on this notice must be received by February 20, 2001 to be assured consideration.

FOR FURTHER INFORMATION CONTACT: Mark Huntley, Accountant, Office of the Deputy Chief Financial Officer, Policy and Internal Review Division, U.S. Department of Agriculture, STOP 33, P.O. Box 200011, St. Louis, MO 63120, telephone: (314) 539-6063.

SUPPLEMENTARY INFORMATION: Title(s): Form RD 1951-65, Customer Initiated Payments (CIP); Form RD 1951-66, FedWire Worksheet; and Form RD 3550-28, Authorization Agreement for Preauthorized Payments.

Type of Request: New Information Collection.

Purpose: Rural Development is currently using new electronic loan collection methods (Preauthorized Debits [PAD], FedWire, and Customer Initiated Payments [CIP]). These electronic collection methods provide a means for Rural Development borrowers to electronically transmit loan payments from their financial institution (FI) accounts to Rural Development's Treasury Account and receive credit for their payment. Accordingly, Rural Development is revising its internal management loan collection procedures to incorporate PAD, FedWire, and CIP electronic collection methods. These internal regulations are to ensure Rural Development field offices have current guidance on the payment and collection methods available and how to use them.

To administer these electronic loan collection methods, Rural Development must collect the borrower's FI routing information (routing information includes the FI routing number and the borrower's account number). Rural Development is proposing to use Agency approved forms for collecting bank routing information for PAD, FedWire, and CIP methods.

Estimate of Burden: Public reporting burden for this collection of information is estimated to average .5 hour per response. Each Rural Development borrower who elects to participate in electronic loan payments will only prepare one response for the life of their loan unless they change financial institutions or accounts.

Respondents: Business or other for-profit; Not-for-profit institutions; and State, Local, or Tribal Government.

Estimated Number of Respondents: 600.

Estimated Number of Responses per Respondent: 1.

Estimated Number of Responses: 600.

Estimated Total Annual Burden on Respondents: 300 manhours.

Copies of this information collection can be obtained from Barbara Williams, Regulations and Paperwork Management Branch, Support Services Division, Rural Development, telephone (202) 692-0045.

Comments: Comments are invited on: (a) whether the proposed collection of information is necessary for the proper performance of the function of the Agencies, including whether the information will have practical utility; (b) the accuracy of the Agencies' estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

Comments should be submitted to Barbara Williams, Regulations and Paperwork Management Branch, Support Services Division, Rural Development, U.S. Department of Agriculture, STOP 0742, 1400 Independence Avenue, SW., Washington, DC 20250-0742. All responses to this notice will be summarized, included in the request for OMB approval, and will become a matter of public record. A comment to OMB is best assured of having its full effect if OMB receives it within 30 days of publication of this rule.

Dated: November 14, 2000.
James C. Kearney,
Administrator, Rural Housing Service.
Dated: December 3, 2000.
Wilbur Peer,
Acting Administrator, Rural Business Cooperative Service.
Dated: December 7, 2000.
Christopher A. McLean,
Administrator, Rural Utilities Service.

[FR Doc. 00-32331 Filed 12-19-00; 8:45 am]

BILLING CODE 3410-XT-P